DEPARTMENT OF TRANSPORTATION

Federal Transit Administration

Fiscal Year 2021 Competitive Research Funding Opportunity: Transit Workforce Center (TWC)

AGENCY: Federal Transit Administration (FTA), U.S. Department of Transportation (DOT).

ACTION: Notice of Funding Opportunity (NOFO).

SUMMARY: This notice announces the availability of $5 million in Fiscal Year (FY) 2020 and 2021 Technical Assistance and Workforce Development funds to establish a Transit Workforce Center (TWC) that supports public transit agencies' workforce development needs for all modes of public transit across urban, tribal, and rural entities. The overarching mission of this new center is to assist public transit agencies to recruit, hire, train, and retain the diverse workforce needed now and in the future.

DATES: Complete proposals for the Transit Workforce Center must be submitted electronically through the GRANTS.GOV “APPLY” function by 11:59 p.m. Eastern time on May 10, 2021. Late applications will not be accepted. Prospective applicants should initiate the process by registering on the GRANTS.GOV website promptly to ensure completion of the application process before the submission deadline. Instructions for applying can be found on FTA's website at http://transit.dot.gov/howtoapply and in the “FIND” module of GRANTS.GOV. The funding opportunity ID is FTA-2021-002-TRI-WD. Mail and fax submissions will not be accepted.

FOR FURTHER INFORMATION CONTACT: If you have questions or need additional information about this Notice of Funding Opportunity, you may contact Ms. Betty Jackson by phone at (202) 366-1730 or by email at Betty.Jackson@dot.gov.

A TDD is available for individuals who are deaf or hard of hearing at 800.877.8339. Prospective applicants may visit the following website for more information: https://www.transit.dot.gov/research-innovation/workforce-development-initiative.

SUPPLEMENTARY INFORMATION:

Table of Contents

A. Program Description

B. Federal Award Information

C. Eligibility Information

D. Application and Submission Information

E. Application Review Information

F. Federal Award Administration

G. Federal Awarding Agency Contacts

H. Other Supporting Information

A. Program Description

This Notice of Funding Opportunity (NOFO), under Federal Assistance Listing number 20.531, supports FTA's strategic goals and objectives through the timely and efficient investment in public transportation. The FTA solicits proposals for a cooperative agreement to establish, build and manage a Transit Workforce Center (TWC) that is a sustainable public transportation workforce development technical assistance center. The mission of the TWC is to help transit agencies recruit, hire, train, and retain the diverse workforce they need for today and tomorrow.

Even as public transit agencies face daunting workforce development challenges—that have been exacerbated by the coronavirus disease 2019 (COVID-19) public health emergency—there are tremendous opportunities for the transit workforce to play a central role in helping achieve President Biden's vision for America to Build Back Better.

Frontline workforce shortages continue, especially in positions relating to bus operation and bus maintenance. Addressing these shortages by developing a skilled transit workforce will create good-paying, secure jobs for workers in communities throughout the country.

A well-trained transit workforce is also central to the United States' response to COVID-19. In response to the public health emergency, transit agencies have had to train workers on various new protocols for drivers and operators to ensure safe operations. In addition, deeper and more frequent sanitation and decontamination of stations and rolling stock may require new procedures and additional workers. Effective workforce training will help keep workers and transit riders safe and will speed our recovery from this public health emergency.

In the longer term, technology has the potential to open new doors for a well-trained transit workforce. Advanced technologies such as smart systems and transit automation, increased rider expectations for real-time information, and new service models utilizing shared services, micro-transit, and data analytics have the potential to transform the transit industry. Training the transit workforce of the future is essential to ensuring that the United States remains competitive in the global economy.

The transit workforce will also play a central role in responding to the climate crisis. With the increased adoption of energy-efficient low- or no-emission vehicles, transit fleets are changing. Maintaining these vehicles requires new skill sets, including knowledge of electricity, charging systems, and a variety of fuels. These vehicles also often require enhancements to maintenance facilities, equipment, and protocols. In furtherance of President Biden's Executive Order 14008, Tackling the Climate Crisis at Home and Abroad, these changes in vehicle technologies will offer “opportunities to create well-paying union jobs to build a modern and sustainable infrastructure, deliver an equitable, clean energy future, and put the United States on a path to achieve net-zero emissions, economy-wide, by no later than 2050.” It is within this evolving and complex landscape that FTA is launching this new resource for transit agencies.

The TWC will perform two primary programs: 1. Conduct technical assistance activities within and for transit agencies that promote more effective and efficient training of frontline workers involved in public transportation maintenance and operations, which is needed to support transformations in public transportation services and assets; and 2. Implement technical assistance activities through collaborative partnerships between transit agency management and labor, including apprenticeships, thereby providing an opportunity to begin addressing social inequities that exist in public transit and creating diversity within and among the transit industry workforce.

Over the last ten years, FTA invested more than $20 million for Innovative Transit Workforce Development Grants. Over forty-five different grants explored projects in several areas, including: (1) New Entrants; (2) Incumbent Worker Training; (3) Youth Engagement and Outreach; (4) Internships, Apprenticeships, Work-Based Skills Training or New Technology Training; and (5) Curriculum Development. FTA recently released an evaluation of the 2015 grants, and a summary of findings from all the projects (see Section H for links to these reports). For just the 2015 grants, over 7,500 individuals participated in the various workforce development projects. Many historically underserved individuals benefited from these employment projects, including veterans, women, racial and ethnic minorities, low-income individuals, re-entering citizens, individuals with disabilities, persons from immigrant communities, as well as urban, tribal, and rural transit providers. The TWC will act as a clearinghouse for previously completed Innovative Transit Workforce Development reports, project models, training materials and curricula, for ease of dissemination.

In December 2018, with facilitation from the Transportation Learning Center and the National Transit Institute at Rutgers University, FTA hosted a two-day gathering of more than two dozen transit industry labor and management representatives to engage in in-depth discussions on frontline workforce training needs across the country. This session was held to build on the results of FTA's more than 45 workforce projects. The meeting also helped to identify immediate, short-term, and long-term training needs for the frontline public transportation workforce in the U.S. and ways to develop apprenticeship and formal training programs to support these needs. The group focused on three key priority areas of the frontline workforce development life cycle—Recruitment, Development, and Retention—and developed recommended actions for each of these priority areas. The synthesis report can be found on FTA's website and is linked in Section H.

The TWC will build upon the results and the findings of these investments and meetings and function as a one-stop shop for transit agencies, stakeholders and providers to find information and receive assistance on all transit workforce related areas. The TWC will help agencies identify the best use for the 0.5% of their FTA Urbanized Area Formula Program funds eligible for workforce programs. See 49 U.S.C. 5314(b)(4). The primary activities of the TWC are to:

1. Provide public transportation workforce development technical assistance to public transit agencies;

2. Provide targeted workforce development training to public transit agencies as funds allow, if not provided by the National Transit Institute;

3. Develop roadmaps for public transportation agency workforce functions and personnel that address readiness for implementing transformative technologies and practices;

4. Develop outreach and marketing materials on promising workforce development projects for dissemination to public transit agencies;

5. Lead workforce strategic planning activities for public transit agencies and FTA;

6. Create a sustainable funding model among its partnerships to continue after FTA's initial funding ends; and

7. Develop key performance metrics as well as identify dataset needs and data analytic activities to monitor trends in public transportation workforce needs and issues, including identification of areas to further diversity, equity and inclusion.

The TWC will be managed by the recipient of the cooperative agreement in coordination with FTA headquarters staff. It will be the first FTA-funded technical assistance resource to support public transit workforce development. Eligible applicants are national nonprofit organizations with a demonstrated capacity to develop and provide workforce development programs through labor management partnerships and apprenticeships.

This Notice solicits competitive proposals addressing the mission, goals, and tasks set forth for this new TWC, provides instructions for submitting proposals, and describes the evaluation criteria for proposal selection.

This announcement is available on the FTA website at: https://www.fta.dot.gov/grants/130707.html. A synopsis of this funding opportunity will be posted in the “FIND” module of the government-wide, electronic grants website called GRANTS.GOV, which can be accessed at this web address: http://www.grants.gov.

B. Federal Award Information

FTA will award the TWC as a cooperative agreement to a national nonprofit organization with a demonstrated capacity to develop and provide workforce development programs though labor management partnerships and apprenticeships. This cooperative agreement will be managed by the FTA Workforce Program manager in its headquarters office. FTA will fund up to 100 percent of the initial project, with a maximum of $5 million available for the first two years of the cooperative agreement with a start date to be determined in 2021, but FTA may give priority consideration to proposals that include local match. The local match can be derived through in-kind activities not funded by the Federal Government and match from other Federal Agencies as noted in the Coordinated Council on Access and Mobility resources on match. Applicants are particularly encouraged to find ways to leverage both FTA and Department of Labor funds and programs. Additional funding may be provided by other strategic partners to address critical transit workforce issues. Subsequent funding from FTA will depend upon decisions and program priorities established by the Secretary of Transportation, future authorizations and appropriations, and the TWC's annual performance reviews.

The maximum period of performance covered by the award amount shall not exceed twenty-four (24) months from the date of execution in FTA's electronic grants management system.

The FTA Administrator will determine the amount of funds to be awarded in the cooperative agreement, up to $5 million. This funding opportunity will be awarded under the terms of a cooperative agreement.

C. Eligibility Information

1. Eligible Applicants

Eligible lead applicants are national nonprofit organizations capable of a national reach with a demonstrated capacity to develop and provide workforce development programs though labor management partnerships, apprenticeships, among other applicable methods. The lead applicant may partner with other organizations as described below.

The cooperative agreement will be between FTA and the selected organization, which must have a primary or substantial interest in performing a majority of the work in the project and must not simply act as a pass-through for funds. Applicants may apply individually or in a group of eligible applicants. The group of eligible applicants must include a lead applicant as the primary recipient of Federal funds. Individuals, for-profit entities, and other Federal agencies are ineligible to apply for this funding.

2. Cost Sharing

The FTA will fund up to 100 percent Federal share, but may give priority consideration to proposals that include local match.

D. Application and Submission Information

1. Address To Request Application Package

Applications must be submitted electronically through Grants.gov. Mail and fax submissions will not be accepted. A complete proposal submission will consist of at least two files: (1) The Standard Form (SF) 424 Application for Federal Assistance, and (2) a narrative application document in Microsoft Word, Adobe Acrobat, or compatible file format. The SF-424 can be downloaded from Grants.gov. The required form and content of the narrative application are described below.

2. Content and Form of Application Submission

Proposals shall be submitted in a Microsoft Word, Adobe Acrobat, or compatible file format, double-spaced using Times New Roman, 12-point font. The proposal must contain the following components and adhere to the specified maximum lengths:

a. Cover sheet (1 page). The cover sheet must include the name of the entity submitting the proposal, the principal's name, title, and contact information (e.g., address, phone, and email), and the name and contact information for the key point of contact for each function of the agreement referenced under the “Program Description” section of this Notice.

b. Abstract (not to exceed 4 pages). The abstract must include the following sections: Background, purpose, methodology, intended outcomes, and plan for evaluation.

c. Detailed budget proposal and budget narrative (not to exceed 3 pages).

d. Project narrative (not to exceed 25 pages). The applicant should submit a project narrative statement describing:

i. The methodology for addressing the project goals, objectives, activities, deliverables, milestones, timeline and intended outcomes for achieving the goals outlined in the scope for the first year;

ii. The methodology for measuring the outputs, and benefits of the proposed project for which Federal assistance is being requested;

iii. The methodology used to develop performance measures and a data plan showing how the TWC team will assess success;

iv. How the applicant demonstrates an understanding of public transportation workforce needs, both broadly at a strategic level, and more specifically, at functional levels both for what types of skills/roles transit agencies need to succeed today and in the future;

v. The applicants' awareness not only of frontline worker needs, but also of new transit worker needs, associated with emerging technologies and service models;

vi. The applicants' dedication to and focus on furthering diversity and equity for transit workers;

vii. The applicants' dedication to and focus on emerging technology areas, including those relevant to responding to the climate crisis;

viii. The existing and future capacity of the organization to address the issues outlined in the proposal;

ix. A detailed plan for communication, technical assistance, and outreach at the State and local levels;

x. A detailed plan to address the three recommendations from the Government Accountability Office's (GAO) report dated May 6, 2019, titled “Transit Workforce Development: Improved Strategic Planning Practices Could Enhance FTA Efforts, GAO-19-290”;

xi. A plan to work with stakeholders and build partnerships at the national level; and

xii. Staff qualifications including: (1) Prior experience providing technical assistance, especially related to public transit agencies' workforce development needs for all modes of public transit across urban, tribal, and rural entities, (2) prior experience implementing the other tasks outlined in this solicitation, (3) staff members' knowledge of issues related to the recruiting, hiring, training and retaining the diverse workforce needed now and in the future, and (4) a one-page biographical sketch for each staff member.

e. Additional Project Narrative Context. The application also should discuss how the recipient will perform the following short- and long-term activities:

Short-Term Activities:

(1) Hiring needed staff and setting up the new center, including developing an interactive website that houses and delivers a library of workforce development tools, topics, articles, best practices; acts as a clearinghouse for transit workforce information; and facilitates outreach.

(2) Developing an online fully functional workflow system TWC Help Desk that will enable email and phone technical assistance inquiries and responses on workforce development questions/topics; this system should be able to gather performance measures that track web-analytics, technical assistance requests, time to resolution of requests, types of requests, and enable a quarterly report to FTA on what activities have been completed, how many people have received assistance; the cost of that assistance; and the satisfaction of those who sought assistance.

(3) Creating a draft transit workforce development strategic plan and submitting it to FTA within six weeks of award that notes key workforce functions needed today and those that will need to be developed for the future.

(4) Based upon the final workforce strategic plan, develop recruitment, training and retention standards and best practices for both urban and rural transit entities operating all transit modes.

(5) Make recommendations to FTA on the data needs to help track and assess public transit workforce needs.

Long-term/ongoing activities:

(1) Promoting promising practices resulting from more than 45 FTA-funded workforce projects over the last ten years, through videos, pamphlets, and webinars;

(2) Providing a mentor/training program for transit instructors as resident instructors;

(3) Tracking and sharing results from successful apprenticeship programs;

(4) Providing peer-to-peer meeting exchanges and collaboration opportunities, while expanding dialogue with transit workforce industry partners and fostering relationships with other non-traditional Federal partners, in an effort to address social inequities and lack of racial diversity within and among the transit industry workforce;

(5) Developing written and electronic training materials that explain how to leverage funds from partners and to use the half percent available from some FTA formula funds (currently totaling over $30 Million annually) for workforce development/human resource activities;

(6) Developing a feedback system that enables opportunities for improvement of the Center's customer service, programs and processes; and

(7) Conducting an evaluation of the Center and its activities.

f. Evaluation Plan. Plan for evaluation of TWC, technical assistance center activities and performance measures (not to exceed 5 pages).

g. Supplemental Materials. Supplemental materials, such as letters of support, can be included in appendices that are beyond the page limit above but are not to exceed 15 additional pages.

h. Geographic Location, Target Groups, and Emphasis Areas. Give a precise location or locations of the proposed partners, while identifying their area(s) of expertise, and impacts expected from their direct involvement in the Center. Information or other graphic aids may be attached as needed.

i. Strategic Partners. FTA expects bidders to develop a broad base of partnerships for the TWC. Though there should be one overall responsible party, the approach to the work should be through a consortium, where different, experienced, organizations work together to meet the diverse needs of public transit agencies.

To be eligible for funding under this NOFO, applicants must demonstrate that the proposed project is supported by the primary eligible applicant in partnership with labor and management organizations and other external partners as needed.

Partner entities to the lead applicant could include, but are not limited to:

(1) Operators of public transportation.

(2) Educational institutions, which include entities providing professional accreditation, apprenticeship programs, degree, and/or certification programs, such as universities, community colleges, or trade schools, either non-profit or for-profit.

(3) Public workforce investment systems, such as local Workforce Investment Boards and their one-stop systems.

(4) Labor organizations, such as labor unions and labor management organizations.

(5) Non-profit organizations that support the mission of transit and transportation workforce development.

An applicant should include a letter of confirmed support from each partner as part of its application. Applicants also must include sufficient evidence of the partnership. Sufficient evidence may include a memorandum of agreement or letter of intent signed by all parties that describes the parties' roles, responsibilities and financial commitment in the proposed project.

3. Unique Entity Identifier and System for Award Management (SAM)

Each applicant is required to: (i) Be registered in SAM before submitting its application; (ii) provide a valid unique entity identifier in its application; and (iii) continue to maintain an active SAM registration with current information at all times during which it has an active Federal award or an application or plan under consideration by a Federal awarding agency. FTA may not make a Federal award to an applicant until the applicant has complied with all applicable unique entity identifier and SAM requirements and, if an applicant has not fully complied with the requirements by the time FTA is ready to make a Federal award, FTA may determine that the applicant is not qualified to receive a Federal award and use that determination as a basis for making award to another applicant. Non-federal entities that have received a federal award are required to report certain civil, criminal, or administrative proceedings to SAM (currently the Federal Awardee Performance and Integrity Information System (FAPIIS)) to ensure registration information is current and comply with federal requirements. Applicants should reference 2 CFR 200.113, for more information.

4. Submission Dates and Time

Project proposals must be submitted electronically through the GRANTS.GOV website at http://www.Grants.GOV by 11:59 p.m. Eastern time on May 10, 2021. Applications submitted after the deadline will not be accepted. Prospective applicants should initiate the process by registering on the GRANTS.GOV website promptly to ensure completion of the application process before the submission deadline.

FTA suggests applicants begin the registration process on GRANTS.GOV well in advance of the deadline and submit applications at least 72 hours prior to the deadline, to allow time to receive the validation messages and to correct any problems that may have caused a rejection notification. GRANTS.GOV scheduled maintenance and outage times are announced on the GRANTS.GOV website. Deadlines will not be extended due to scheduled website maintenance.

5. Funding Restrictions

Proposed projects under the TWC must provide direct support to public transit agency workforce development goals and objectives. Capital expenses such as equipment purchases are not considered to be eligible costs unless they directly relate to the workforce development program being supported by FTA funds. Acceptable costs can include but are not limited to faculty or instructors, technology and start-up costs for information technology systems and website resources, subject matter expert consultants in workforce development areas as needed, salaries and fringe benefits of direct staff, support staff, classroom space, books, materials and supplies, and transportation stipends for students.

The FTA funds under this program are not intended as an offset to regular transit agency employee salaries and may not be used to cover the regular or overtime salaries of employees at transit agencies offering training. Funds may be used to cover the costs of staff directly engaged in a program management or training role at an agency.

Funds under this NOFO cannot be used to reimburse projects for otherwise eligible expenses incurred prior to FTA award of a Grant Agreement or Cooperative Agreement unless FTA has issued a “Letter of No Prejudice” for the project before the expenses are incurred. Allowable direct and indirect expenses must be consistent with the Governmentwide Uniform Administrative Requirements and Cost Principles (2 CFR part 200) and FTA Circular 5010.1E.

6. Other Submission Requirements

Complete proposals for the Transit Workforce Center (TWC) must be submitted electronically through the GRANTS.GOV website by 11:59 p.m. Eastern time on May 10, 2021. Late applications will not be accepted. Once completed, the narrative application must be placed in the attachments section of the SF-424 Mandatory form. Applicants must attach the narrative application file to their submission in GRANTS.GOV to successfully complete the proposal process. A proposal submission may contain additional supporting documentation as attachments.

Applicants may submit more than one proposal. However, each proposal must not be duplicative. Submission of multiple proposals from a single entity will not increase that entity's chances of being awarded funding.

In addition to submittal in GRANTS.GOV, proposers are encouraged to begin the process of registration on the GRANTS.GOV website well in advance of the submission deadline. Registration is a multi-step process, which may take several weeks to complete before an application can be submitted. Registered proposers may still be required to take steps to keep their registration up to date before submissions can be made successfully: (1) Registration in the System for Award Management (SAM) (formerly the Central Contracting Registry (CCR) system) is required; and (2) persons making submissions on behalf of the Authorized Organization Representative (AOR) must be authorized in GRANTS.GOV by the AOR to make submissions.

Within 24 to 48 hours after submitting an electronic application, the applicant should receive three email messages from GRANTS.GOV: (1) Confirmation of successful transmission to GRANTS.GOV, (2) confirmation of successful validation by GRANTS.GOV, and (3) confirmation of successful validation by FTA. If confirmations of successful validation are not received and a notice of failed validation or incomplete materials is received, the applicant must address the reasons for the failed validation, as described in the email notice, and resubmit before the submission deadline. If making a resubmission for any reasons, include all original attachments regardless of which attachments were updated and check the box on the supplemental form indicating this is a resubmission. FTA strongly encourages proposers to submit their applications at least 72 hours prior to the due date to allow time to receive the validation messages and to correct any problems that may have caused a rejection notification.

Eligible entities must have or must secure a DUNS number for the purposes of formal application and potential entry into a cooperative agreement with FTA. The DUNS number is a unique nine-character number that identifies your organization. It is a tool of the Federal government to track how Federal money is distributed. Each FTA applicant's DUNS number will be maintained as part of the applicant's profile. This number can be obtained free through the Dun and Bradstreet (D&B) website (http://www.dnb.com/US/duns_update/).

In addition, each entity that applies and does not have an exemption under 2 CFR 25.110 must:

• Be registered in the System for Award Management (SAM) prior to submitting an application or plan (www.sam.gov), and

• Maintain an active SAM registration with current information at all times during which it has an active Federal award or an application or plan under consideration by an agency.

E. Application Review Information

1. Criteria

FTA will assess the extent to which a proposal addresses the following criteria:

a. Innovation in Technical Assistance Provision—FTA will evaluate the extent to which an applicant identifies a unique or innovative approach in providing technical assistance to address workforce development issues in public transit.

b. Outreach, Marketing and Training Capacity for the Transit Workforce—FTA will evaluate whether an applicant's proposal demonstrates the ability to carry out outreach, marketing and training activities that focus on current and emerging transit workforce needs. Additionally, the applicant must be able to identify, develop, share and implement outreach, marketing and workforce training models.

c. Strategic Partnership Development—FTA will evaluate whether proposals demonstrate an ability to develop long-standing and strong transit workforce partnerships among current industry partners, new partners and within the Federal Government.

d. Project Management and Organizational Capacity—FTA will evaluate the capacity of the applicant and its required partners to effectively staff the proposed initiative and deliver the proposed outcomes, as well as the fiscal, administrative, and performance management capacity in implementing key components (e.g. technical assistance, outreach and marketing, etc.) of this project.

e. Promotion of Workforce Diversity and Equity—FTA will evaluate the extent to which the applicant demonstrates a dedication to and focus on furthering diversity and equity for transit workers.

f. Emphasis on Emerging Technology—FTA will evaluate the extent to which the applicant demonstrates a dedication to and focus on transit workforce development in emerging technology areas, including technologies relevant to responding to the climate crisis.

g. Sustainability of Center—FTA will evaluate the extent to which the applicants and required partners demonstrate a results-oriented approach to managing, operating and sustaining a technical assistance center after receiving initial FTA funding. In doing so, FTA will evaluate the track record of the applicants and its required partners, to implement projects of similar focus, size, and scope.

2. Review and Selection Process

A technical evaluation committee will review proposals under the project selection criteria. Members of the technical evaluation committee and the FTA Workforce Program Manager will screen each application for eligibility and rate the applications it receives, and may seek clarification from any applicant about any statement in its application that FTA finds ambiguous or to request additional documentation to be considered during the evaluation process to clarify information contained within the proposal. FTA may fund successful applications at up to 100 percent of project costs, and non-Federal matching contributions are not required. However, FTA may give priority consideration to applications that include non-Federal match. After consideration of the findings of the technical evaluation committee, the FTA Administrator will determine the final selection.

3. FAPIIS Check

FTA, prior to making a Federal award with a total amount of Federal share greater than the simplified acquisition threshold, is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FTA will consider any comments by the applicant, in addition to the other information in the designated integrity and performance system, in making a judgment about the applicant's integrity, business ethics, and record of performance under Federal awards when completing the review of risk posed by applicants as described in the Office of Management and Budget's Uniform Requirements for Federal Awards (2 CFR 200.206).

F. Federal Award Administration

1. Federal Award Notice

After the FTA Administrator has selected the proposal to be funded, the successful applicant will be notified by email or telephone of their status.

2. Administrative and National Policy Requirements

a. Notification of Award

Upon notification of intent to award funds, FTA may withdraw its offer to provide Federal assistance if the recipient does not provide a formal application consistent with its proposal submission within 90 days following the date of the offer.

b. Execution of the FTA Agreement

The successful applicant will be instructed by FTA on how to execute their cooperative agreement in FTA's electronic grants management system.

c. Start Date and Incurred Costs

Absent special circumstances, costs incurred prior to FTA award are not eligible as project expenses. The recipient may begin to incur project costs when the project is executed in FTA's Transit Award Management System (TrAMS). FTA expects recipients to implement the projects awarded as soon as possible and to fully expend grant funds during the period of performance, recognizing that full transparency and accountability are required for all expenditures.

d. Standard Assurances

Selected recipients must comply with all Federal statutes, regulations, executive orders, directives, FTA circulars, and other Federal administrative requirements in carrying out project supported activities by this FTA award. In addition to these requirements, recipients and sub-recipients of FTA funds are required to submit the Certifications and Assurances before entering into a grant or cooperative agreement, if there is no current certifications and assurances documents on file.

e. Statement of Work

Once selected for award, the recipient is asked to outline a plan of action, organized by work task, timelines, pertaining to the scope and detail of how the proposed work will be accomplished. List estimated milestone dates and performance measures/goals for major activities and products which are SMART—specific, measurable, achievable, relevant, and timebound. Activities should be justified in terms of eligible program activities and proposals should clearly demonstrate the connection between the planned work and at least one of the specific program activities cited. The Statement of Work also should address supporting activities, such as marketing plans for engaging participants and/or dissemination strategies for sharing the results, if such are critical to the success of the supported program. There is a sense of urgency to set-up and implement this center, and FTA is dedicated to moving quickly once a final recipient is selected. Once selected, the applicant will have 60 days to work with the FTA assigned program manager to set-up, reserve and obligate the project within the FTA electronic grant making system. Applicants are encouraged to develop statements of work that can be easily edited and modified into a TrAMS application. This cooperative agreement will be managed from FTA's headquarters office.

Note: FTA, and any additional funding agencies, will participate in activities by negotiating the final statement of work, attending review meetings, commenting on technical reports, maintaining frequent contact with the project manager, approving key decisions and activities, and redirecting project activities, as needed.

Explain how your organization and the proposed partners' staff, systems, and experience will enable success in the development, implementation, and management of this new workforce development technical assistance center. Describe your specific approach, and how its innovative aspects have potential for nationwide or regional return on investments and sustainability. In addition to innovative workforce practices, cite the unique features of your services, such as design or technological innovations, reductions in cost or time, jobs created, new jobs facilitated, environmental benefits, internships/apprenticeships created, benefits to transit employees, or social and community involvement. Finally, identify uncertainties and external factors that could affect the schedule, cost, success, or sustainability of the Center. Supporting documentation may be provided as an attachment that will not count toward the total page limit.

f. Independent Evaluation

The selected recipient and its sub-recipients will be subject to evaluation by an independent evaluator selected and funded separately by FTA. Recipients will be required to coordinate with the independent evaluator to assist in developing an evaluation plan; and collecting, sorting, and managing data required to fulfill that evaluation plan, including providing documentation for all costs associated with the project.

g. Draft Workforce Metrics

The recipient funded here will be required to support efforts of FTA or its designee in the evaluation of the project and its outcomes against a set of workforce metrics.

h. Data Access & Data Sharing

Recipients funded under this announcement will be required to gather and share all relevant and required data with FTA within appropriate and agreed-upon timelines, to support any project evaluations.

In response to the White House Office of Science and Technology Policy memorandum, dated February 22, 2013, entitled “Increasing Access to the Results of Federally Funded Scientific Research,” the Department is incorporating Public Access requirements into all funding award (e.g. grants, cooperative agreements, etc.) for scientific research. Recipients are required to include these obligations in any-sub-awards or other related funding agreements.

Recipients must remove all Confidential Business Information (CBI) or PII information before providing public access to any project data. All appropriate data are to be accessible to FTA and/or the public for a minimum of five (5) years after the period of performance has expired.

Recipients and sub-recipients must make available to FTA copies of all work developed in performance of a project funded under this announcement, including but not limited to software and data.

i. Knowledge Transfer

Recipients and sub-recipients may be asked, during the period of performance, to participate in information exchange meetings, webinars, or outreach events to support FTA's goal of advancing models of success and information that is helping to address the critical workforce issues.

3. Reporting

Post-award reporting requirements include the electronic submission of Federal Financial Reports and Milestone Progress Reports in FTA's electronic grants management system. Applicant should include any goals, targets, and indicators referenced in their application in the Executive Summary of the TrAMS application.

As part of completing the annual certifications and assurances required of FTA recipients, a successful applicant must report on the suspension or debarment status of itself and its principals. If the award recipient's active grants, cooperative agreements, and procurement contracts from all Federal awarding agencies exceeds $10,000,000 for any period of time during the period of performance of an award made pursuant to this Notice, the recipient must comply with the Recipient integrity and Performance Matters reporting requirements described in Appendix XII to 2 CFR part 200.

G. Federal Awarding Agency Contacts

If you have questions or need additional information about this Notice of Funding Opportunity, you may contact Ms. Betty Jackson by phone at 202.366.1730 or by email at Betty.Jackson@dot.gov. A TDD is available for individuals who are deaf or hard of hearing at 800.877.8339. Prospective applicants may visit the following websites for more information: http://www.fta.dot.gov.

For more on managing projects in accordance with FTA Circular 6100.1E: Transit Research and Technology Programs: Application Instructions and Program Management Guidelines: https://www.transit.dot.gov/sites/fta.dot.gov/files/docs/FTA_Cir_6100.1E.docx_4.08.2015_%282%29_0.pdf. This Circular includes requirements on project management and administration including quarterly reporting, financial management, and payment.

For general program information, please use the contact information identified in the front of this notice. Please contact the GRANTS.GOV Helpdesk for assistance with electronic applications at http://www.grants.gov. You also may contact support@grants.gov or call toll-free (800.518.4726).

H. Other Supporting Information

a. FTA Annual Report on Technical Assistance and Workforce Development for FY 2018— https://www.transit.dot.gov/sites/fta.dot.gov/files/docs/research-innovation/132006/fta-annual-report-technical-assistnce-and-workforce-development-fy-2018-ftareportno0132_0.pdf.

b. Advancing Frontline Workforce Development Meeting: Synthesis (Report 0154) (2018)— https://www.transit.dot.gov/research-innovation/advancing-frontline-workforce-development-meeting-synthesis-report-0154.

c. Innovative Transit Workforce Development Projects of 2015: Summative Evaluation (Report-0153)— https://www.transit.dot.gov/research-innovation/innovative-transit-workforce-development-projects-2015-summative-evaluation.

d. Innovative Transit Workforce Development Projects of 2012: Summative Evaluation— https://www.transit.dot.gov/sites/fta.dot.gov/files/docs/research-innovation/130981/innovative-transit-workforce-development-projects-2012-summative-evaluation-fta-report-no0128_0.pdf.

e. Innovative Transit Workforce Development Projects of 2011 Report (0094)— https://www.transit.dot.gov/research-innovation/innovative-transit-workforce-development-projects-2011-report-report-0094.

f. Innovative Transit Workforce Development Program: Key Lessons Learned (Report 0139)— https://www.transit.dot.gov/research-innovation/innovative-transit-workforce-development-program-key-lessons-learned-report-0139.

g. Transit Workforce Development: Improved Strategic Planning Practices Could Enhance FTA Efforts, GAO-19-290— https://www.gao.gov/assets/700/697562.pdf.

h. Summary of Workforce Development Summit Proceedings— https://www.transit.dot.gov/research-innovation/summary-workforce-development-summit-proceedings-report-0096.

i. All of FTA's Research Reports and Publications can be found here: https://www.transit.dot.gov/research-innovation/fta-reports-and-publications.

Nuria I. Fernandez,
Deputy Administrator.

[FR Doc. 2021-07749 Filed 4-14-21; 8:45 am]

BILLING CODE 4910-57-P